DEPARTMENT OF HEALTH AND HUMAN SERVICES

Administration for Children and Families

Proposed Information Collection Activity; ORR-3 and ORR-4 Report Forms for the Unaccompanied Refugee Minors Program (OMB #0970-0034)

AGENCY: Office of Refugee Resettlement, Administration for Children and Families, U.S. Department of Health and Human Services.

ACTION: Request for public comments.

SUMMARY: The Office of Refugee Resettlement (ORR) is requesting a 3-year extension of the ORR-3 and ORR-4 Report Forms for the Unaccompanied Refugee Minors Program (OMB#: 0970-0034, expiration 02/29/2024). There are no changes requested to the report forms, but ORR proposes minor revisions to the form instructions to improve clarity, including additional guidance for providers on how to assess youth functioning.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ORR-3 Report is submitted within 30 days of the minor's initial placement in the state, within 60 days of a reportable change in the minor's case (e.g., change in legal responsibility, change in foster home placement, change in immigration data), and within 60 days of termination from the program. The ORR-4 Report is submitted every 12 months beginning on the first anniversary of the initial placement date, to record outcomes of the minor's progress.

Respondents: Unaccompanied Refugee Minors (URM) State Agencies, URM Provider Agencies, and youth participants.

Annual Burden Estimates

URM State Agencies
Instrument | Total number of respondents | Total number of responses per respondent | Average burden hours per response | Total burden hours | Annual burden hours
ORR-3 URM Placement Report | 15 | 432 | 0.25 | 1,620 | 540
ORR-4 URM Outcomes Report | 15 | 282 | 0.50 | 2,115 | 705
Estimated Total Annual Burden Hours (URM State Agencies): 1,245.

URM Provider Agencies
Instrument | Total number of respondents | Total number of responses per respondent | Average burden hours per response | Total burden hours | Annual burden hours
ORR-3 URM Placement Report | 24 | 270 | 0.50 | 3,240 | 1,080
ORR-4 URM Outcomes Report | 24 | 162 | 1.0 | 3,888 | 1,296
Estimated Total Annual Burden Hours (URM Provider Agencies): 2,376.

Youth Participants
Instrument | Total number of respondents | Total number of responses per respondent | Average burden hours per response | Total burden hours | Annual burden hours
ORR-4 URM Outcomes Report | 1032 | 3 | 0.50 | 1,548 | 516
Estimated Total Annual Burden Hours (Youth Participants): 516.

Total Estimated Annual Burden Hours: 4,137.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522(d).

Mary B. Jones,
ACF/OPRE Certifying Officer.

[FR Doc. 2023-15556 Filed 7-21-23; 8:45 am]

BILLING CODE 4184-89-P